DEPARTMENT OF THE INTERIOR

Fish and Wildlife Service

[FWS-HQ-NWRS-2025-N039; FXRS126109WH000-267-FF09R23000; OMB Control Number 1018-0190]

Agency Information Collection Activities; Submission to the Office of Management and Budget; U.S. Fish and Wildlife Service Bison Donations Request Program

AGENCY: Fish and Wildlife Service, Interior.

ACTION: Notice of information collection; request for comment.

SUMMARY: In accordance with the Paperwork Reduction Act of 1995, we, the U.S. Fish and Wildlife Service (Service), are proposing to renew a currently approved information collection without change.

DATES: Interested persons are invited to submit comments on or before March 2, 2026.

ADDRESSES: Written comments and recommendations for the proposed information collection should be sent within 30 days of publication of this notice to https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0190” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States. You may also view the information collection request at https://www.reginfo.gov/public/do/PRAMain.

SUPPLEMENTARY INFORMATION: In accordance with the Paperwork Reduction Act (PRA; 44 U.S.C. 3501 et seq.) and its implementing regulations at 5 CFR part 1320, all information collections require approval under the PRA. We may not conduct or sponsor, and you are not required to respond to, a collection of information unless it displays a currently valid Office of Management and Budget (OMB) control number.

On September 11, 2025, we published in the Federal Register (90 FR 44083) a notice of our intent to request that OMB approve this information collection. The Service published the Federal Register notice on Regulations.gov (Docket No. FWS-HQ-NWRS-2025-0023) to provide the public with an additional method to submit comments (in addition to the typical email and U.S. mail submission methods). In that notice, we solicited comments for 60 days, ending on November 10, 2025. We received two comments in response to that notice; however, neither comment addressed the information collection requirements, and no response is required.

As part of our continuing effort to reduce paperwork and respondent burdens, we are again inviting the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: The Service's “Bison Donations Transfer Protocol” (protocol) describes the process for the donation of the available surplus bison from the Service to eligible organizations, Tribes, or intertribal organizations as outlined in regulations at 50 CFR 30.1, as well as in Service Manual chapters 701 FW 5 and 701 FW 8. Surplus bison are offspring that exceed the ecological carrying capacity of the Service bison metapopulation. The primary purposes of donating these bison are to support conservation of the species as native North American wildlife and to assist in the restoration of bison herds on conservation partner lands, with special emphasis on restoring conservation herds to Tribal lands. Our authorities governing the Protocol include:

• National Wildlife Refuge System Administration Act, as amended (16 U.S.C. 668dd and 668ee);

• American Indian Religious Freedom Act (Pub. L. 95-341, as amended);

• Indian Self-Determination and Education Assistance Act (Pub. L. 93-638, as amended);

• Surplus Range Animals (50 CFR 30.1);

• Disposition of Surplus Range Animals (50 CFR 30.2);

• Native American Policy of the U.S. Fish and Wildlife Service (510 FW 1);

• Range-Limited American Plains Bison Management policy (701 FW 8); and

• Collections, Donations, and Disposals policy (701 FW 5).

In 2020, the U.S. Department of the Interior (DOI) Bison Working Group published the Department of the Interior Bison Conservation Initiative 2020 (initiative), recognizing bison as a wildlife species in need of conservation. Consistent with this initiative, Service policy identifies the ecological and cultural values of bison as nationally and/or historically significant animals.

The Bison Conservation Genetics Workshop: Report and Recommendations (2010 report) identifies DOI bison herds as a valuable source with which to start new conservation herds proposed by other Federal, State/provincial, or Tribal governments. The DOI Bison Report: Looking Forward (2014 report) acknowledges the challenges to achieving bison restoration on DOI lands and emphasizes the importance of partnerships for achieving bison conservation and ecological restoration. Both the 2010 and 2014 reports also identify the potential for bison herds maintained by Indian Tribes to contribute to species conservation, and the Service recognizes that such bison may also support Tribal cultural rights and practices.

Periodic reduction in the size of Service bison herds is required to remain within the ecological carrying capacity of Service lands. Live bison capture and removal assist in the restoration of bison to Tribal lands, support the efforts of States and other conservation organizations, and ensure that the ecological needs of other species are met on refuges of limited size. To support maximum conservation of genetic diversity within and across Service herds, selection of young bison available for donation is coordinated across all refuges. From the surplus bison made available for donation from refuges, requests will be prioritized for bison restoration and conservation purposes.

We use Form 3-2555, “Bison Donations Request Form,” to request surplus bison. Respondents will generally be from Tribal governments and intertribal organizations, although we do expect to receive a small number of requests from States and private sector organizations (nonprofit and educational/research organizations). The request form provides details governing the protocol and collects the following information:

• Name of requesting Tribe, intertribal organization, State, or private sector organization.

• Documentation that the proposed project or program meets the definition of a conservation herd.

• Demonstration of the educational contribution of the donation to increasing public knowledge and appreciation of the wildlife values of bison (for educational and research organizations only).

• Total number (or percentage of total donation request) of bison and purpose of request:

—Establish a free-ranging conservation herd;

—Supplement or augment a free-ranging conservation herd;

—Establish a self-sustaining herd for non-conservation purposes;

—Supplement or augment a self-sustaining herd for non-conservation purposes;

—Public display, educational purposes, and/or research;

—Tribal spiritual or cultural purposes; or

—A description if “Other” purpose.

• Signature of requesting Tribe, intertribal organization, State, or private sector organization official.

In addition to the completion of Form 3-2555, recipients of donated bison must inform the Service of the destination State for donated bison no fewer than 30 days prior to a scheduled bison capture operation, to allow the Service time to meet interstate transport regulatory testing requirements. Recipients of donated bison must also inform the Service of the physical destination address for donated bison no fewer than 10 days prior to scheduled bison loadout, to facilitate timely completion of required interstate veterinary permit applications and veterinary inspection certificates.

The public may request a copy of Form 3-2555 by sending a request to the Service Information Collection Clearance Officer (see ADDRESSES, above).

Title of Collection: U.S. Fish and Wildlife Service Bison Donations Request Program.

OMB Control Number: 1018-0190.

Form Number: 3-2555.

Type of Review: Extension without change of a currently approved collection.

Respondents/Affected Public: Private sector organizations and State/local/Tribal governments.

Respondent's Obligation: Voluntary.

Total Estimated Number of Annual Respondents: 22.

Total Estimated Number of Annual Responses: 33.

Estimated Completion Time per Response: Varies from 30 minutes to 1 hour, depending on activity.

Total Estimated Number of Annual Burden Hours: 22.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2026-01900 Filed 1-29-26; 8:45 am]

BILLING CODE 4333-15-P